DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Ad Hoc Work Group on Secondary Uses of Health Data.

Time and Date: August 23, 2007, 9 a.m.-5:30 p.m., August 24, 2007, 9 a.m.-5:30 p.m.

Place: Hubert H. Humphrey Building, Room 305A, 200 Independence Avenue, SW., Washington, DC 20201.

Status: Open.

Purpose: The NCVHS Working Group will meet to discuss its work to develop a conceptual framework that includes (1) a taxonomy describing types of uses and users of health data; (2) provides guiding principles that balance the risk, sensitivity, benefits, obligations, and protections of various uses of health data, and (3) clarifies terminology associated with various uses of health data. The group will also begin to gather information from a wide variety of stakeholders on issues related to secondary uses of data. Initial consideration will be placed on how data are used in the processing and management of data directly associated with quality measurement, reporting, and improvement.

For Further Information Contact: Substantive program information as well as summaries of meetings and a roster of committee members may be obtained from Debbie Jackson, Senior Program Analyst, NCVHS, National Center for Health Statistics, Centers for Disease Control and Prevention, 3311 Toledo Road, Room 2339, Hyattsville, Maryland 20782, telephone (301) 458-4614 or Marjorie S. Greenberg, Executive Secretary, NCVHS, National Center for Health Statistics, Centers for Disease Control and Prevention, Room 1100, Presidential Building, 3311 Toledo Road, Hyattsville, Maryland 20782, telephone: (301) 458-4245. Information also is available on the NCVHS home page of the HHS Web site: http://www.ncvhs.hhs.gov/ where an agenda for the meeting will be posted when available. Should you require reasonable accommodation, please contact the CDC Office of Equal Employment Opportunity on (301) 458-4EEO (4336) as soon as possible.

Dated: August 9, 2007.
James Scanlon,
Deputy Assistant Secretary for Science and Data Policy (OASPE), Office of the Assistant Secretary for Planning and Evaluation.

[FR Doc. 07-4010 Filed 8-15-07; 8:45 am]

BILLING CODE 4151-05-M